POSTAL SERVICE

39 CFR Part 111

Barcode Requirements for Special Services Labels

AGENCY: Postal Service.

ACTION: Extension of compliance date for commercially printed special services labels.

SUMMARY: In response to information received by the Postal Service from the mailing community, the Postal Service is extending the compliance date for barcoded special services labels from June 10, 2000, to February 3, 2001.

DATES: Effective May 9, 2000. All parties must comply with the final rules (published on January 24, 2000, at 65 FR 3609) for barcoding of special services labels and forms by February 3, 2001.

FOR FURTHER INFORMATION CONTACT: Tandelyia Samuels, (202) 268-5236.

SUPPLEMENTARY INFORMATION: On January 24, 2000, the Postal Service made a public announcement in the Federal Register, Volume 65, that any mailer using commercially printed special services labels on or after June 10, 2000, will be required to meet the new barcoded special services label requirements. In response to information received by the Postal Service from the mailing community since the January 24, 2000, announcement, the Postal Service is extending the compliance date for barcoded special services labels from June 10, 2000, to February 3, 2001. Any mail with PS Form 3800, Certified Mail Receipt, PS Form 3813P, Receipt for Insured Mail—Domestic-International, PS Form 8099, Receipt for Recorded Delivery, Label 200, Registered Mail, and PS Form 3804, Return Receipt for Merchandise, on or after February 3, 2001, will be required to meet the barcode requirements. The final rule changes affecting the barcoding of special services labels and forms are set forth in the June 1 update to the Domestic Mail Manual (DMM) and in the International Mail Manual (IMM). The technical requirements for producing barcoded special services labels and forms are published in Publication 109, Special Services Technical Guide—Postal Forms and Labels, published March 2000. Publication 109 is available on the Postal Service Web site (http://www.usps.com). Click on “Get Info,” then “Postal Periodicals and Publications,” then “Publications,” and scroll to Publication 109.

Stanley F. Mires,
Chief Counsel, Legislative.

[FR Doc. 00-11588 Filed 5-8-00; 8:45 am]

BILLING CODE 7710-12-U